ENVIRONMENTAL PROTECTION AGENCY

[FRL-8540-8]

Science Advisory Board Staff Office; Clean Air Scientific Advisory Committee (CASAC) Notification of a Public Teleconference of the Carbon Monoxide NAAQS Review Panel

AGENCY: Environmental Protection Agency (EPA).

ACTION: Notice.

SUMMARY: The Environmental Protection Agency (EPA or Agency) Science Advisory Board (SAB) Staff Office announces a public teleconference of the Clean Air Scientific Advisory Committee (CASAC) Carbon Monoxide (CO) National Ambient Air Quality Standards (NAAQS) Review Panel (CASAC Panel) to conduct a consultation on EPA's Draft Integrated Plan for Review of the Primary National Ambient Air Quality Standards for Carbon Monoxide (March 2008).

DATES: The CASAC Panel will meet by public telephone from 1 p.m. to 5 p.m. (Eastern Time) on Tuesday, April 8, 2008.

FOR FURTHER INFORMATION CONTACT: Any member of the public who wishes to obtain further information concerning this public teleconference may contact: Ms. Kyndall Barry, Designated Federal Officer (DFO), EPA Science Advisory Board (1400F), U.S. Environmental Protection Agency, 1200 Pennsylvania Avenue, NW., Washington, DC 20460; via telephone/voice mail: (202) 343-9868; fax: (202) 233-0643; or e-mail at: barry.kyndall@epa.gov. General information concerning the CASAC or the EPA SAB can be found on the EPA Web site at: http://www.epa.gov/sab/.

SUPPLEMENTARY INFORMATION:

Background: The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC is a Federal advisory committee chartered under the Federal Advisory Committee Act (FACA), as amended, 5 U.S.C., App. The Panel will comply with the provisions of FACA and all appropriate SAB Staff Office procedural policies.

Section 109(d)(1) of the CAA requires that the Agency periodically review and revise, as appropriate, the air quality criteria and the NAAQS for the six “criteria” air pollutants, including carbon monoxide. EPA is currently reviewing the primary (health-based) NAAQS for CO. The current primary NAAQS for CO was first promulgated in 1971 and retained in 1985 and 1994. The purpose of this public teleconference meeting of the CASAC CO Review Panel is to provide consultative advice on the Agency's Draft Integrated Plan for Review of the Primary National Ambient Air Quality Standards for Carbon Monoxide (March 2008). Background information about the CASAC CO review activities and about the formation of the CASAC CO Panel was published in the Federal Register on October 12, 2007 (72 FR 58078-58080).

Availability of Meeting Materials: The Draft Integrated Plan for Review of the Primary National Ambient Air Quality Standards for Carbon Monoxide (March 2008) will be available on the EPA's Web site at: http://www.epa.gov/ttn/naaqs/standards/co/s_co_index.html. For questions and information regarding the Agency's draft document, please contact Ms. Chris Trent at (919) 541-5337 or trent.chris@epa.gov. The agenda and other materials for this CASAC teleconference will be posted on the SAB Web site at: http://www.epa.gov/sab/ prior to the meeting.

Procedures for Providing Public Input: Interested members of the public may submit relevant written or oral information for consideration on the topics included in this advisory activity. Oral Statements: In general, individuals or groups requesting an oral presentation at a public teleconference will be limited to three minutes per speaker, with no more than a total of 30 minutes for all speakers. Interested parties should contact Ms. Barry, DFO, in writing (preferably via e-mail), by April 1, 2008, at the contact information noted above, to be placed on the list of public speakers for this meeting.

Written Statements: Written statements should be received in the SAB Staff Office by the same date, so that the information may be made available to the CASAC Panel for its consideration prior to this teleconference. Written statements should be supplied to the DFO in the following formats: One hard copy with original signature and one electronic copy via e-mail (acceptable file formats: Adobe Acrobat PDF, MS Word, WordPerfect, MS PowerPoint, or Rich Text files in IBM-PC/Windows 98/2000/XP format).

Accessibility: For information on access or services for individuals with disabilities, please contact Ms. Barry at the phone number or e-mail address noted above, preferably at least ten days prior to the meeting, to give EPA as much time as possible to process your request.

Dated: March 4, 2008.
Anthony F. Maciorowski,
Deputy Director, EPA Science Advisory Board Staff Office.

[FR Doc. E8-4825 Filed 3-10-08; 8:45 am]

BILLING CODE 6560-50-P